DEPARTMENT OF THE INTERIOR

Fish and Wildlife Service

[FWS-HQ-ES-2013-N191; FXES111309F0000-134-FF09E22000]

Endangered and Threatened Wildlife and Plants; Initiation of a 5-Year Review of the Vicuña in Argentina, Bolivia, Chile, Ecuador, and Peru

AGENCY: Fish and Wildlife Service, Interior.

ACTION: Notice of initiation of review; request for information.

SUMMARY: We, the U.S. Fish and Wildlife Service (Service), are initiating a 5-year review under the Endangered Species Act of 1973, as amended (Act), of the vicuña. A 5-year review is based on the best scientific and commercial data available at the time of the review. We are requesting submission of information that has become available since the last review of the species.

DATES: To ensure consideration, please send your written information by January 21, 2014. However, we will continue to accept new information about any listed species at any time.

ADDRESSES: Please submit your information in writing to the Branch of Foreign Species, Endangered Species Program, by any one of the following methods:

• Electronically: Email es_foreignspecies@fws.gov.

• U.S. mail: U.S. Fish and Wildlife Service; 4401 North Fairfax Drive, Room 420, Arlington, VA 22203.

For more about submitting information, see “What Information Do We Consider in Our Review?” and “Request for Information” under SUPPLEMENTARY INFORMATION below.

FOR FURTHER INFORMATION CONTACT: Janine Van Norman, Chief, Branch of Foreign Species, Endangered Species Program, U.S. Fish and Wildlife Service, 4401 N. Fairfax Drive, Room 420, Arlington, VA 22203; telephone 703-358-2171; facsimile 703-358-1735. If you use a telecommunications device for the deaf (TDD), please call the Federal Information Relay Service (FIRS) at 800-877-8339.

SUPPLEMENTARY INFORMATION:

Why do we conduct 5-year reviews?

Under the Act (16 U.S.C. 1531 et seq.), we maintain Lists of Endangered and Threatened Wildlife and Plants (which we collectively refer to as the List). Wildlife and plants on the List can be found at http://ecos.fws.gov/tess_public/pub/listedAnimals.jsp and http://ecos.fws.gov/tess_public/pub/listedPlants.jsp, respectively. Section 4(c)(2)(A) of the Act requires us to review each listed species' status at least once every 5 years. Our regulations at 50 CFR 424.21 require that we publish a notice in the Federal Register announcing those species under active review. For additional information about 5-year reviews, refer to our fact sheet at http://www.fws.gov/endangered/what-we-do/recovery-overview.html.

What information do we consider in our review?

In conducting a 5-year review, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in Section 4(a)(1) of the Act); and

(E) Other new information, data, or corrections, including but not limited to taxonomic or nomenclatural changes, identification of erroneous information contained in the List, and improved analytical methods.

New information will be considered in the 5-year review and ongoing recovery programs for the species.

Species Under Review

This notice announces our review of the vicuña (Vicugna vicugna). In the United States, the vicuña is subject to two regulatory measures: The Act and the Convention on International Trade in Endangered Species of Wild Fauna and Flora (CITES). We originally listed the vicuña as endangered under the Act on June 2, 1970 (35 FR 8491). Among other things, that listing prohibited certain U.S. interstate and foreign commerce in vicuña products. The vicuña was included in Appendix I of CITES on July 1, 1975 (the date of entry into force of CITES), which thereby generally prohibited primarily commercial international trade in vicuña products. Certain populations of vicuñas in Chile and Peru were transferred to CITES Appendix II at the sixth meeting of the Conference of the Parties to CITES (CoP6) in 1987. The remaining vicuña populations of Peru were transferred to Appendix II in 1994 at the ninth meeting of the Conference of the Parties (CoP9), while certain populations in Argentina and Bolivia were transferred to Appendix II in 1997 at the tenth meeting of the Conference of the Parties (CoP10). These transfers to CITES Appendix II reflected an improved conservation status for specified vicuña populations, and allowed the resumption of commercial, international trade—under carefully controlled conditions—of vicuña fiber and products manufactured from vicuña fiber. This international trade, however, was still excluded from the United States because of the species' listing as endangered under the Act, which is a stricter domestic measure than CITES. The United States supported the above transfers of the specified vicuña populations to Appendix II, based on information contained in the supporting statements for the various CITES amendment proposals.

On October 5, 1995, we received a petition from the President of the International Vicuña Consortium, an association of companies in the fiber industry, requesting that the vicuña be removed from the U.S. list of endangered and threatened wildlife, or reclassified with a special rule that would allow for commercial trade that would benefit the conservation of the species. The petitioners cited, among other things, improved management of vicuña populations and improved enforcement and trade controls. Our 90-day finding on whether the petition presented substantial information and our 12-month finding on whether the petitioned action was warranted were subsumed within a proposed rule, which was published in the Federal Register on September 8, 1999 (64 FR 48743).

In a final rule published on May 30, 2002 (67 FR 37695), we reclassified the populations of Argentina, Bolivia, Chile, and Peru as threatened under the Act. We also established a special rule (under Section 4(d) of the Act) allowing the importation into the United States of legal fiber and legal products produced with fiber from vicuña populations listed as threatened under the Act and in Appendix II of CITES, if certain conditions were satisfied by the exporting or re-exporting country. We retained as endangered under the Act the recently introduced vicuña population of Ecuador, treated as a distinct population segment under the Act in accordance with the Service's Policy on Distinct Vertebrate Population Segments (61 FR 4722; February 7, 1996).

Effective June 12, 2013, the CITES Parties adopted a proposal that transferred the whole vicuña population of Ecuador from Appendix I to Appendix II. According to the CITES annotation, the revised Appendix II listing refers only to specific populations of Argentina (the populations of the Provinces of Jujuy and Catamarca and the semi-captive populations of the Provinces of Jujuy, Salta, Catamarca, La Rioja, and San Juan), Chile (population of the Primera Región), Ecuador (the whole population), Peru (the whole population), and the Plurinational State of Bolivia (the whole population); all other populations are included in Appendix I.

Request for Information

To ensure that a 5-year review is complete and based on the best available scientific and commercial information, we request new information from all sources. See “What Information Do We Consider In Our Review?” for specific criteria. If you submit information, please support it with documentation such as maps, bibliographic references, methods used to gather and analyze the data, and/or copies of any pertinent publications, reports, or letters by knowledgeable sources.

Public Availability of Submissions

Before including your address, phone number, email address, or other personal identifying information in your submission, you should be aware that your entire comment—including your personal identifying information—may be made publicly available at any time. Although you can request that personal information be withheld from public review, we cannot guarantee that we will be able to do so. Materials received will be available for public inspection, by appointment, during normal business hours at the office where the comments are submitted.

Authority

This document is published under the authority of the Endangered Species Act of 1973, as amended (16 U.S.C. 1531 et seq.).

Dated: November 4, 2013.
Gary Frazer,
Assistant Director for Ecological Services, U.S. Fish and Wildlife Service.

[FR Doc. 2013-27584 Filed 11-18-13; 8:45 am]

BILLING CODE 4310-55-P